NUCLEAR REGULATORY COMMISSION

[NRC-2009-0361; Docket No. 40-8964]

Notice of Availability of Environmental Assessment and Finding of No Significant Impact for License Amendment for Receipt and Processing of Third Party Ion Exchange Resin Power Resources, Inc., Glenrock, WY

AGENCY: U.S. Nuclear Regulatory Commission.

ACTION: Notice of availability.

FOR FURTHER INFORMATION CONTACT: Douglas T. Mandeville, Project Manager, Uranium Recovery Licensing Branch, Division of Waste Management and Environmental Protection, Office of Federal and State Materials and Environmental Management Programs, U.S. Nuclear Regulatory Commission, Washington, DC 20555-0001. Telephone: (301) 415-0724; fax number: (301) 415-5369; e-mail: douglas.mandeville@nrc.gov.

SUPPLEMENTARY INFORMATION:

I. Introduction

The U.S. Nuclear Regulatory Commission (NRC) is issuing a license amendment to Material License No. SUA-1548, issued to Power Resources, Inc. (PRI), to authorize the receipt and processing of third party ion exchange resin at its in situ recovery (ISR) facility near Glenrock, Wyoming. NRC has prepared an Environmental Assessment (EA) in support of this amendment in accordance with the requirements of 10 CFR part 51. Based on the EA, the NRC has concluded that a Finding of No Significant Impact is appropriate. The amendment will be issued following the publication of this Notice.

II. EA Summary

The purpose of the proposed amendment is to authorize the receipt and processing of third party ion exchange resins at PRI's Smith Ranch—Highland Uranium Project facility near Glenrock, Wyoming. Specifically, PRI sought permission to accept and process 365 shipments of ion exchange resin per year from NRC licensed facilities in the State of Wyoming. This action would be performed within the currently approved processing limits of 20,000 gpm flowrate in the central processing plant and annual yellowcake production of 5.5 million pounds per year. PRI submitted the license amendment request to the NRC on June 19, 2008.

The staff has prepared the EA in support of the proposed license amendment. The staff considered impacts to public and occupational exposures, groundwater, endangered and threatened species, historic and cultural resources, socioeconomic conditions, noise, transportation, waste management, soils, and air quality. This proposed action does not seek to increase the wellfield areas, land application area, or the currently authorized production limits. Furthermore, PRI will not open any new wellfields as a result of this licensing action, beyond those currently addressed by its license. Therefore, the staff does not expect the proposed action to impact public and occupational exposures, groundwater, endangered or threatened species, historic and cultural resources, socioeconomic conditions, and noise.

NRC staff does not expect significant environmental impacts to transportation, waste management, soils, and air quality. The additional traffic volume of approximately 1 truck per day is relatively small compared to the existing traffic volumes on the roadways. Therefore, the additional traffic resulting from shipment of IX resin to and from SR-HUP is not expected to significantly contribute to the congestion or accident rates on these roadways. Vehicle emissions from the additional traffic are not expected to significantly contribute to the vehicle emissions on these roadways. Since PRI has committed in the license amendment request to remain below the currently approved flow rate and yellowcake production limits, the amount of liquid and solid effluents generated at the facility will remain at or below current maximum estimated levels. Therefore, the proposed action is not expected to significantly impact waste management practices at SR-HUP.

III. Finding of No Significant Impact

On the basis of the EA, NRC has concluded that there are no significant environmental impacts from the proposed amendment and has determined that there is no need to prepare an environmental impact statement.

IV. Further Information

Documents related to this action, including the application for amendment and supporting documentation, are available electronically at the NRC's Electronic Reading Room at http://www.nrc.gov/reading-rm/adams.html. From this site, you can access the NRC's Agencywide Documents Access and Management System (ADAMS), which provides text and image files of NRC's public documents. The ADAMS accession numbers for the documents related to this notice are:

Document title | Date | Accession No.
Smith Ranch—Highland Uranium Project License Amendment Request for Processing of Third-Party Resin | June 19, 2008 | ML081760278
Acceptance Review of Request for Approval of Processing of Third-Party Resin at the Smith-Ranch Highland Uranium Project | July 23, 2008 | ML082030638
Response to Request to Provide Additional Information Concerning Third Party Resin Bead Processing | October 1, 2008 | ML082820419
Acceptance Review of Request for Approval of Processing of Third-Party Resin at the Smith-Ranch Highland Uranium Project | November 5, 2008 | ML083040047
Final Environmental Assessment for the Third Party Processing of Ion Exchange Resin | July 28, 2009 | ML091420421

If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated at Rockville, Maryland, this 12th day of August 2009.
For the Nuclear Regulatory Commission.
Keith I. McConnell,
Deputy Director, Decommissioning and Uranium Recovery Licensing Directorate, Division of Waste Management and Environmental Protection, Office of Federal and State Materials and Environmental Management Programs.

[FR Doc. E9-20041 Filed 8-19-09; 8:45 am]

BILLING CODE 7590-01-P